DEPARTMENT OF THE INTERIOR

Office of Surface Mining Reclamation and Enforcement

30 CFR Part 756

[Stats No. CR-1-FOR; Docket ID OSM-2007-0019]

Crow Tribe Abandoned Mine Land Reclamation Plan

AGENCY: Office of Surface Mining Reclamation and Enforcement, Interior.

ACTION: Proposed rule; public comment period and opportunity for public hearing on proposed amendment.

SUMMARY: We, the Office of Surface Mining Reclamation and Enforcement (OSM), are announcing receipt of a proposed amendment to the Crow Tribe Abandoned Mine Land Reclamation (AMLR) Plan (hereinafter, the Crow Plan) under the Surface Mining Control and Reclamation Act of 1977 (SMCRA or the Act). The Crow Tribe has requested concurrence from the Secretary of the Department of the Interior with its certification of completion of all coal-related reclamation objectives. If the Secretary concurs with the certification, the Crow Tribe intends to request AMLR funds to pursue projects in accordance with section 411 of SMCRA.

DATES: Comments on the proposed rule must be received by 4:00 p.m., m.s.t., January 16, 2008 to ensure our consideration. If requested, we will hold a public hearing on the amendment on January 11, 2008. We will accept requests to speak until 4 p.m., m.s.t., January 2, 2008.

ADDRESSES: You may submit comments by either of the two following methods:

• Federal e-Rulemaking Portal: http://www.regulations.gov. The notice is listed under the agency name “Office of Surface Mining Reclamation and Enforcement” and has been assigned Docket ID: OSM-2007-0019.

• Mail/Hand Delivery: Jeffrey Fleischman, Director, Casper Field Office; Office of Surface Mining Reclamation and Enforcement; 150 East “B” Street, Room 1018, Casper, Wyoming 82601. Please include the Docket ID (OSM-2007-0019) with your comments.

If you would like to submit comments through the Federal eRulemaking Portal, go to www.regulations.gov and do the following. Find the blue banner with the words “Search Documents” and go to “Optional Step 2.” Select “Office of Surface Mining Reclamation and Enforcement” from the agency drop-down menu, then click the “Submit” button at the bottom of the page. The next screen will have the title “Document Search Results.” The proposed rule is listed under the Docket ID as OSM-2007-0019. If you click on OSM-2007-0019, you can view and print a copy of the amendment, the proposed rule, add comments, and view any comments submitted by other persons.

We cannot ensure that comments received after the close of the comment period (see DATES) or sent to an address other than the two listed above will be included in the docket for this rulemaking and considered.

For additional information on the rulemaking process and the public availability of comments, see “III. Public Comment Procedures” in the SUPPLEMENTARY INFORMATION section of this document.

You may receive one free copy of this amendment by contacting OSM's Casper Field Office. You may access this amendment's docket, review copies of the Crow Plan and this amendment, find a listing of any scheduled public hearings, and review all written comments received in response to this document during normal business hours, Monday through Friday, excluding holidays, at the following addresses:

Federal e-Rulemaking Portal: http://www.regulations.gov. The notice has been assigned Docket ID: OSM-2007-0019.

Jeffrey Fleischman, Director, Casper Field Office, Office of Surface Mining Reclamation and Enforcement, 150 East “B” Street, Room 1018, Casper, Wyoming 82601, (307) 261-6550, jfleischman@osmre.gov.

Carl Venne, Chairman, Crow Tribe Executive Branch, Bacheeitche Avenue, Crow Agency, Montana 59022, (406) 638-3715.

FOR FURTHER INFORMATION CONTACT: Jeffrey Fleischman, Casper Field Office Director, Telephone: (307) 261-6550, Internet address: jfleischman@osmre.gov.

SUPPLEMENTARY INFORMATION:

I. Background on the Crow Plan

II. Description of the Proposed Amendment

III. Public Comment Procedures

IV. Procedural Determinations

I. Background on the Crow Plan

The Abandoned Mine Land Reclamation Program was established by Title IV of the Act (30 U.S.C. 1201 et seq.) in response to concerns over extensive environmental damage caused by past coal mining activities. The program is funded by a reclamation fee collected on each ton of coal that is produced. The money collected is used to finance the reclamation of abandoned coal mines and for other authorized activities. Section 405 of the Act allows States and Indian tribes to assume exclusive responsibility for reclamation activity within the State or on Indian lands if they develop and submit to the Secretary of the Interior for approval, a program (often referred to as a plan) for the reclamation of abandoned coal mines.

On January 4, 1989, the Secretary of the Interior approved the Crow Tribe's AMLR Plan. You can find general background information on the Crow Plan, including the Secretary's findings and the disposition of comments, in the January 4, 1989, Federal Register (54 FR 116). You can also find later actions concerning Crow Tribe's Plan and plan amendments at 30 CFR 756.20.

II. Description of the Proposed Amendment

By letter dated May 29, 2007, the Crow Tribe indicated to OSM that all high priority coal-related hazards on the Crow Reservation have been successfully addressed. As such, the Crow Tribe seeks certification of completion of all coal-related problems. If this request is approved by OSM it will mark the addressing, for the present, of all known existing coal-related problems within the Crow Reservation eligible for funding under the AMLR program.

If approved, the certificate of completion will be codified at 30 CFR 756.20. In accordance with 30 CFR 875.13(c), the Crow Tribe may then implement a program under Section 411 of SMCRA.

OSM is seeking public comment on the adequacy of the Crow Tribe's certification that it has addressed all reclamation relating to abandoned coal mine lands. In addition, OSM is aware of the potential for problems occurring in the future which relate to pre-August 3, 1977, coal mining. In accordance with 30 CFR 875.13(a)(3), the Crow Tribe agrees to acknowledge and give top priority to any coal-related problem(s) that may be found or occur after submission of the certificate of completion.

The full text of the plan amendment is available for you to read at the locations listed above under ADDRESSES.

III. Public Comment Procedures

Under the provisions of 30 CFR 884.15(a), OSM requests your comments on whether the amendment satisfies the applicable Tribal reclamation plan approval criteria of 30 CFR 884.14. If we approve the amendment, it will become part of the Crow Plan.

Electronic or Written Comments: If you submit written comments, they should be specific, confined to issues pertinent to the proposed regulations, and explain the reason for any recommended change(s). We appreciate any and all comments, but those most useful and likely to influence decisions on the final regulations will be those that either involve personal experience or include citations to and analyses of SMCRA, its legislative history, its implementing regulations, case law, other pertinent Tribal or Federal laws or regulations, technical literature, or other relevant publications.

We cannot ensure that comments received after the close of the comment period (see DATES) or sent to an address other than those listed above (see ADDRESSES) will be included in the docket for this rulemaking and considered.

Public Availability of Comments: Before including your address, phone number, e-mail address, or other personal identifying information in your comment, you should be aware that your entire comment—including your personal identifying information—may be made publicly available in the electronic docket for this rulemaking at www.regulations.gov. While you can ask us in your comment to withhold your personal identifying information from public review, we cannot guarantee that we will be able to do so.

Public Hearing

If you wish to speak at the public hearing, contact the person listed under FOR FURTHER INFORMATION CONTACT by 4 p.m., m.s.t. on January 2, 2008. If you are disabled and need reasonable accommodation to attend a public hearing, contact the person listed under FOR FURTHER INFORMATION CONTACT. We will arrange the location and time of the hearing with those persons requesting the hearing. If no one requests an opportunity to speak, we will not hold the hearing. If only one person expresses an interest, a public meeting rather than a hearing may be held, with the results included in the docket for this rulemaking.

To assist the transcriber and ensure an accurate record, we request, if possible, that each person who speaks at a public hearing provide us with a written copy of his or her comments. The public hearing will continue on the specified date until everyone scheduled to speak has been given an opportunity to be heard. If you are in the audience and have not been scheduled to speak and wish to do so, you will be allowed to speak after those who have been scheduled. We will end the hearing after everyone scheduled to speak and others present in the audience who wish to speak, have been heard.

IV. Procedural Determinations

Executive Order 13175—Consultation and Coordination With Indian Tribal Governments

In accordance with Executive Order 13175, we have identified potential effects on a federally recognized Indian tribe (the Crow Tribe) that will result from this rule which is based on an amendment submitted by the Crow Tribe. This rule will enable the Crow Tribe to utilize AMLR grant monies to implement a program under Section 411 of SMCRA. We have been in consultation with the Crow Tribe and will fully consider tribal views when we develop the final rule.

Executive Order 12630—Takings

This rule does not have takings implications. This determination is based on the analysis of the amendment submitted by the tribe.

Executive Order 12866—Regulatory Planning and Review

This rule is exempted from review by the Office of Management and Budget (OMB) under Executive Order 12866 (Regulatory Planning and Review).

Executive Order 12988—Civil Justice Reform

The Department of the Interior has conducted the reviews required by section 3 of Executive Order 12988 and has determined that, to the extent allowable by law, this rule meets the applicable standards of subsections (a) and (b) of that section. However, these standards are not applicable to the actual language of tribal AMLR plans and revisions thereof because each plan is drafted and promulgated by a specific Indian tribe, not by OSM. Decisions on the proposed Crow Tribe AMLR plan and revisions thereof submitted by the Tribe are based on a determination of whether the submittal meets the requirements of Title IV of SMCRA (30 U.S.C. 1231-1243) and the applicable Federal regulations at 30 CFR Part 884.

Executive Order 13211—Regulations That Significantly Affect the Supply, Distribution, or Use of Energy

On May 18, 2001, the President issued Executive Order 13211 which requires agencies to prepare a Statement of Energy Effects for a rule that is (1) considered significant under Executive Order 12866, and (2) likely to have a significant adverse effect on the supply, distribution, or use of energy. Because this rule is exempt from review under Executive Order 12866 and is not expected to have a significant adverse effect on the supply, distribution, or use of energy, a Statement of Energy Effects is not required.

National Environmental Policy Act

No environmental impact statement is required for this rule since agency decisions on proposed tribal AMLR plans and revisions thereof are categorically excluded from compliance with the National Environmental Policy Act (42 U.S.C. 4321 et seq.) by the Manual of the Department of the Interior (516 DM 13.5(29)).

Paperwork Reduction Act

This rule does not contain information collection requirements that require approval by OMB under the Paperwork Reduction Act (44 U.S.C. 3501 et seq.).

Regulatory Flexibility Act

The Department of the Interior certifies that this rule will not have a significant economic impact on a substantial number of small entities under the Regulatory Flexibility Act (5 U.S.C. 601 et seq.). The proposed rule, if adopted, would affect only the Crow Tribe and, as previously stated, would allow the tribe to request AMLR funds to pursue projects in accordance with section 411 of SMCRA.

Small Business Regulatory Enforcement Fairness Act

This rule is not a major rule under 5 U.S.C. 804(2), of the Small Business Regulatory Enforcement Fairness Act. Based on the nature of the amendment submitted by the tribe, we have determined that the rule:

a. Does not have an annual effect on the economy of $100 million.

b. Will not cause a major increase in costs or prices for consumers, individual industries, Federal, State, or local government agencies, or geographic regions.

c. Does not have significant adverse effects on competition, employment, investment, productivity, innovation, or the ability of U.S. based enterprises to compete with foreign-based enterprises.

Unfunded Mandates

This rule will not impose an unfunded mandate on State, local, or Tribal governments or the private sector of $100 million or more in any given year. This determination is based on the nature of the amendment submitted by the tribe.

List of Subjects in 30 CFR Part 756

Abandoned mine reclamation programs, Indian lands, Surface mining, Underground mining.

Dated: November 5, 2007.
Louis Hamm,
Acting Regional Director, Western Region.

[FR Doc. E7-24389 Filed 12-14-07; 8:45 am]

BILLING CODE 4310-05-P